ENVIRONMENTAL PROTECTION AGENCY

[FRL-7431-6]

Notice of National Environmental Information Exchange Network Grant Guidelines

AGENCY: Environmental Protection Agency (EPA).

ACTION: Notice of solicitation for proposals.

SUMMARY: The goal of the National Environmental Information Exchange Grant Program is to advance the National Environmental Information Exchange Network (Network) by encouraging State and Tribal environmental data integration efforts. The Network was created almost three years ago in an effort to integrate the environmental data management systems of the States, Tribes, and federal government by using the Internet and creating standardized information exchange formats. Completion of this integrated network will enable fast and timely sharing of environmental information from across the country and improve our ability to more effectively distribute that information to the public.

The Network supports one of the major goals of the President's Management Agenda for E-Government by helping create a seamless, citizen-centered government. The Network uses technologies and approaches that are found in E-commerce and provides an alternative to the historic approaches for exchanging data that rely upon data being processed directly to multiple EPA national data systems. Ultimately, network participants will house information on their own nodes or portals where it will be available upon authorized request.

EPA and the Environmental Council of the States have developed the Network Implementation Plan and the Network Blueprint that further explain the goals and operating principles for the Network. The Network Implementation Plan describes in detail the activities and mechanisms that must be developed to operate and manage the Network; the Network Blueprint document describes the foundation for the Network Implementation Plan. Both documents can be accessed at: http://www.epa.gov/neengprg/library/.

The President's fiscal year (FY) 2003 budget, which is now before Congress, includes $25 million for this grant program. Subject to availability of appropriations for this purpose, EPA plans to select, through a competitive process, grant proposals that will be awarded to States, the District of Columbia, Trust Territories (referred to as States in the remainder of this guidance), and Federally Recognized Indian Tribes (referred to as Tribes in the remainder of this guidance) for capacity building capabilities for Network participation. Tribes will receive funds from a designated set-aside pool of resources. A designated set-aside of funds will also support the Network Administration for States and Tribes. This notice sets forth the process that will be used for selecting proposals and forms necessary to prepare a proposal.

DATES: Proposals must be postmarked and also received electronically by EPA on or before February 18, 2003.

ADDRESSES: Proposals must be submitted by mail or courier to U.S. EPA Headquarters, Office of Information Collection, Attn: Lyn Burger, EPA West, Mail Code 2821T, 1200 Pennsylvania Avenue, NW., Washington, DC 20460 and electronically by e-mail: neengprg@epamail.epa.gov. This notice for request for proposals is final. However, comments and questions may be directed to e-mail at neengprg@epamail.epa.gov.

FOR FURTHER INFORMATION CONTACT: Lyn Burger, U.S. E.P.A., Office of Information Collection, Mail Code 2821T, 1200 Pennsylvania Avenue, NW., Washington, DC 20460; Phone (202) 566-1024; E-mail at neengprg@epamail.epa.gov or one of the regional contacts listed in Section VII. For additional information, please visit the Grant Program website at http://www.epa.gov/neengprg.

Dated: December 20, 2002.
Kimberly T. Nelson,
Assistant Administrator and Chief Information Officer, Office of Environmental Information.

FY2003 National Environmental Information Exchange Network Grant Program.

Section I. Overview

This document solicits grant proposals from States and Tribes. Proposals will be due to EPA on or before February 18, 2003. There are no matching requirements for any part of the Grant Program.

Only those States and Tribes whose proposals are selected for funding will need to proceed through the formal grant application process. After notification by EPA that the applicant's proposal has been selected for funding, the successful nominees will have 60 days to complete and submit the formal grant application. EPA may ask successful nominees to modify objectives, work plans or budgets prior to the final approval of the award. Final FY 2003 awards will be subject to availability of appropriations for this purpose. Subsequent year funding beyond FY 2003 depends on continued appropriations.

Although the selections will be announced and awarded at the national level, Network grants will be managed by the respective EPA Regional Office. The final scope of activities to be completed and the duration of the projects will be determined in pre-award negotiations between the nominee and the respective EPA Regional Project Coordinator (see Section VII for a listing of EPA Regional Project Coordinators). The Regional Project Coordinator will be available to provide additional guidance in preparing the application, filling out the necessary forms, and answering any questions. In anticipation of this process, all applicants should refer to the web site http://www.epa.gov/ogd/AppKit/.

Section II. Network Grant Components

The Network Grant Program has four main parts which are:

1. Network One Stop

2. Network Readiness

3. Network Challenge

4. Network Administration

Section III. Guidance for Applicants

This section describes the application process for each part of the Grant Program.

Part 1—describes general requirements that apply to each part of the Grant Program.

Part 2—describes the eligibility, availability and use of funds and the particular requirements for submitting proposals for Network One Stop Grants.

Part 3—describes the eligibility, availability and use of funds and the particular requirements for submitting proposals for Network Readiness Grants.

Part 4—describes the eligibility, availability and use of funds, and the particular requirements for submitting proposals for Network Challenge Grants.

Part 5—describes the Network Administration Grant.

Part 1—Contents for Proposals

Federal Form

Application for Federal Assistance (SF424), the official form required for all federal grants and the Budget Information (SF 424A) are federal forms that must be included with the submission of a federal grant proposal. The SF424 requests information about the grantee and the proposed project. A signed original of this form is required by EPA. The SF 424A requests budget information on the proposed project. An electronic copy of both forms and instructions for completing the forms can be obtained at http://www.epa.gov/neengprg.

Applicants must also submit one paper copy of the work plan as well as the SF-424 and SF424-A by mail or courier with an electronic copy of the work plan by e-mail to neengprg@epamail.epa.gov.

Please Note: Only applicants whose proposals are selected by EPA for funding will need to submit additional federal grant forms necessary to process their award. Please do not submit additional forms other than the SF 424, SF 424A and the work plan.

Work Plan

A work plan describes your project. Clearly describe the goal(s) of the project in detail, what measures are to be used to evaluate the success of the project, and the plan for reporting results based on those measures.

Page Limits

Work Plans for Network One Stop Grants should be no more than 15-20 pages in length. Work Plans for Network Readiness Grants should be no more than 5-10 pages in length. Work Plans for Network Challenge Grant should be no more than 10-15 pages in length.

Applicants should ensure that they adequately describe the project they plan to undertake within the page limitation. “One page” refers to one side of a single-spaced typed page. The pages must be letter sized (8½ x11 inches), with margins at least one-half inch wide and with normal type size (11 or 12 font).

Confidential Information

Applicants should clearly mark information in their grant proposals that they consider to be confidential. EPA will make final confidentiality decisions in accordance with 40 CFR 2, Subpart B.

Submission of Multiple Grant Proposals

States or Tribes submitting Network One Stop, Network Readiness and/or Network Challenge applications may submit applications at the same time.

Lead Agency

Eligible entities (States and Tribes) should designate a single lead agency (e.g., an agency with responsibility for environmental regulation or management, natural resources, health, agriculture, etc.) to submit the proposal to EPA. Ideally, a proposal would describe the data integration efforts and coordination that has and will take place among various agencies of the State or Tribe. EPA strongly encourages State Environmental, Health, and Natural Resource Agencies to coordinate internally and submit proposals for funding. Ideally, one of these agencies would take the lead for submitting the Network proposal, but clearly demonstrate in the work plan that coordination has taken place among the internal agencies of the State.

That single lead agency will have overall responsibility for developing the grant proposal, submitting the grant application, and managing grant funds from one grant cycle to the next. The lead agency may award sub-grants, contracts, and establish intra-governmental agreements as necessary to implement their work plan.

Quality Assurance Plan (QAP)

If an approved QAP currently exists for data flows being proposed with the application, a copy of the plan should be referenced in the proposal. It is not necessary to submit a copy of the plan with the proposal.

Proposed projects that will collect, manage, and analyze/access environmental data will be subject to quality assurance and peer review requirements. Environmental Data are any measurements or information that describe environmental processes, location, or condition; ecological or health effects and consequences; or the performance of environmental technology. Environmental data also include information collected directly from measurements, produced from models, and obtained from other sources such as data bases or published literature.

Applicants should allow sufficient time and resources for completing their QAP. Before federal funds will be released, applicants should work with the respective Regional Project Officer as well as the Regional Quality Assurance Manager to develop and implement a QAP that is acceptable to all parties. Additional guidance, as well as a listing of the Regional Quality Assurance Managers, can be found at http://www.epa.gov/quality.

Where necessary, recipients may use the template developed for technology grants. A copy of this template can be found at the Network Grants web site www.epa.gov/neengprg. Regulations pertaining to quality assurance/quality control requirements can also be found in 40 CFR 30.54 and 31.45.

Funding Vehicle Preference

The grant proposal should indicate whether the applicant prefers receiving grant funds as part of an existing Performance Partnership Grant or as a separate grant.

Part 2—Network One Stop Grants

Eligibility and Availability of Funds

All States and Tribes that have not previously received a One Stop Grant may apply for a One Stop Grant. States are eligible to receive a maximum of $500,000. Tribes are eligible to receive a maximum of $100,000 from the Tribal set-aside funds. Fiscal Year 2003 will be the last year for One Stop Grant Funds availability to States and Tribes as the EPA commitment to continue the One Stop Reporting Program through Fiscal Year 2003 will be met and completed.

Note: A State or Tribe that received funding for a Network Readiness Grant in FY 2002 but has not previously been awarded a Network One Stop Grant will be eligible to apply for a Network One Stop Grant and a Network Readiness Grant in FY 2003. However, a State or Tribe may only receive funding in one category.

Use of Funds

These grants are intended for the purpose of continuing EPA's commitment to offer funding under the One Stop Reporting Partnership Program through 2003. These grant funds are intended to support the broader goals of the One Stop program which are to (1) reduce the reporting burden on industry, States, and local governments; (2) foster multimedia (air, water, waste) and geographic approaches to problem solving; and (3) provide the public with meaningful, real-time access to environmental data.

Particular Requirements

To receive a grant, each State/Tribe must submit a 15-20 page proposal. The proposal should address State/Tribal plans and activities that demonstrate the following:

(1) Senior State/Tribal Leadership (Deputy Commissioner, Commissioner, Chief Information Officer, Governor, and Tribal equivalent) willingness to establish clear accountability for environmental reporting reforms and to participate with EPA and other participants in documenting and communicating the results of the grant.

(2) A commitment to accomplishing burden reduction, data integration, and public access, as indicated by the level of investment in and capacity for environmental data management.

(3) Readiness for full-scale implementation of programs to work toward the following established objectives, as indicated by accomplishments and planned activities.

Integrating State/Tribal/EPA data management—EPA will give special attention to proposals that address the State or Tribe capacity and readiness to implement the cornerstone of integrating environmental data, the facility identifier. This approach is compatible with EPA's Facility Identification data standard, which was finalized in November 2000. Integration of environmental data at the facility level is the primary thrust of the Facility Identification Template for States (FITS2) dated February 2000 and sponsored by ECOS and the EPA (www.sso.org/ecos/projects).

Capitalizing on burden reduction opportunities—The measures that EPA is adopting to reduce reporting burden typically require State action to actually achieve the reductions. States/Tribes are not required to immediately and unconditionally implement these policies as a condition for receiving a grant; however, States/Tribes are expected to demonstrate a credible effort to adopt these or other measures for reducing reporting burden as part of their overall reforms.

Employing an inclusive stakeholder process to design and implement reporting and data management reforms—EPA will not specify the form of the stakeholder process or specify requirements for representation. However, it is expected that States/Tribes will devise ways to ensure that local government, industry, environmental and other public interest groups, and the general public have an opportunity to participate in environmental reporting reforms.

Enhancing electronic reporting—The efforts that will take place towards a long term goal of achieving universal access to electronic reporting for the regulated community.

Enhancing public access to environmental performance data—Identify data from what sources, data about regulator performance, and data on environmental status and trends.

Network Transition—Indicate the intent of adopting and adapting longer term efforts to participate on the Network.

A State or Tribe grant proposal must also specify a commitment to produce the major deliverable of the grant which is a comprehensive three to five-year plan to reform environmental reporting and data management. In the past, the plan has been referred to as a 120-Day Plan, since each state awarded a grant was required to submit the plan 120 days following their baseline visit.

The baseline visit was an on-site visit by EPA's information technology experts (staff and consultants) that gave the State's leadership a snapshot of their agency's information opportunities and challenges. EPA will continue to offer this assistance to each State/Tribe awarded a One Stop grant. EPA agrees to participate with the State/Tribe in developing this plan by ensuring the availability of key Agency staff and managers, by providing expert technical support including contractor assistance if required, and by giving prompt attention to State/Tribal requests for policy clarifications and decisions.

The State/Tribe may begin implementation of its work program and expend funds received through this grant during the period in which this plan is being developed.

The plan should include:

a. A statement of State/Tribe goals and objectives for environmental reporting and data management for a three-to-five year period;

b. A description of major outputs over the term of the program plan, projected dates for each major output, and assignment of responsibility for each project output;

c. A list of key program participants and a description of their roles;

d. An approach for tracking program progress and measuring success during the described period in the plan.

Criteria and Selecting Proposals

The Network One Stop grants are intended to stimulate a partnership with applicants who have decided to undertake a comprehensive re-engineering of their information management process in order to reduce the burden of environmental reporting on the regulated community, integrate agency data and data management processes across program and organizational lines, and improve public access to environmental information.

EPA will focus on: (1) The applicant's commitment to accomplishing the above goals as indicated by their level of investment in and capacity for environmental data management; (2) the applicant's readiness for full-scale implementation of programs to accomplish the above goals over the long term, specifically including standards for identifying and locating regulated facilities across all programs; (3) the applicant's commitment to produce a comprehensive three to five-year plan to reform environmental reporting and data management which clearly identifies the intent to adapt longer term efforts toward participation on the Network; and (4) Senior Leadership commitment.

EPA's Office of Environmental Information (OEI) will form a proposal review panel consisting of representatives from OEI, EPA's American Indian Environmental Office (AIEO), and EPA's Regional Offices. The panel members will separately review and then discuss each proposal. OEI will make final selections based on panel recommendations and feedback on project proposals from Regional Project Coordinators. EPA Headquarters will award and Regional Program Offices will manage these grants.

Part 3—Network Readiness Grants

Eligibility and Availability of Funds

All States and Tribes may apply for a Network Readiness Grant. States are eligible to receive a maximum of $400,000 for a grant. Tribes are eligible to receive a maximum of $100,000 for a grant from the Tribal set-aside funds. States or Tribes awarded a Readiness grant in FY 2002 may submit a Readiness Grant proposal for FY 2003. However, the new work plan must clearly identify how the work will relate to and build upon work planned or accomplished for FY 2002. Applicants must clearly define how the FY 2003 Readiness project complements the FY 2002 Readiness project and how both efforts collectively will advance the applicant's participation in the Network.

Use of Funds

These grants are intended to assist States and Tribes to build upon their priority internal information technology investments while constructing initial linkages to the Network. These grants must be used for work that advances the quality and availability of environmental data, and that produces a material advancement in one or more of the Network's components (Trading Partner Agreements, Data Standards, Data Exchange Templates, technical infrastructure, etc.). Each applicant will provide a work plan that addresses their commitment to participate on the Network and the actual development of a node or portal on the Network.

Particular Requirements

An applicant must produce a comprehensive three-year transition plan that addresses critical steps and milestones that will demonstrate their commitment to participate on the Network. Ideally, the State/Tribe transition plan should align with EPA's Central Data Exchange (CDX) data flow priorities and would demonstrate how the Network data standards, which have been developed by the Environmental Data Standards Council (EDSC), will be implemented. While States and Tribes are not restricted to proposed CDX data flows, they are strongly encouraged to align their proposals with EPA's CDX data flow priority listing. Similarly, States and Tribes are not required to develop and implement the EDSC approved standards but are strongly encouraged to address current or future plans for adopting and implementing the EDSC approved data standards.

For the most current information on CDX flow priorities and status, please refer to the CDX web site at www.epa.gov/cdx/priority. The EDSC has approved the following data standards: facility identification, chemical identification, biological taxonomy, date, latitude/longitude, classification of business establishments, permitting, enforcement/compliance, tribal identifiers, and water quality monitoring. See http://www.epa.gov/edsc/data_standards.html for more details.

The transition plan must precisely describe and clearly identify which core capacity building functions, based on the list below, the applicant plans to undertake and complete.

(1) Establish an official information source and steward. The establishment will enhance the capacity to identify and manage an official, high quality data source (e.g., at least one source of data in a mature stage of production that is used for agency business, reconciled data across multiple sources using supported keys/linkages, and/or at least one source of data that would likely be used within the Network).

(2) Develop technical infrastructure for Internet node operation that will enhance the technical infrastructure and capabilities needed to support node operation (e.g., web server hardware in production, management of a relational database, IT personnel available to develop, establish, and support State node projects).

(3) Connection of information resources to the node which will extend the range of data sharing, data access, data integration and decision tools to partners on the Network and/or stakeholders in need of access to the information resources.

(4) Node implementation which will establish the agency's single management point for providing its information to the Network.

(5) Node/TPA Management which will enhance the overall management capacity to be a participant on the Network, to execute data exchanges, to establish Trading Partner Agreements, to manage and operate on the Network with adequate and appropriate security protocols, and/or to conduct strategic information and architecture planning.

Eligible activities, which support one or more of the above listed functions, could be, but are not necessarily limited to:

Management Capabilities—consultation services, technical architecture planning and implementation support activities that promote Network participation. These services include: development and implementation of EPA adopted data standards, trading partner agreements, data format design templates and schemas, strategic planning, technical architecture planning, and implementation support activities that promote Network participation.

Technical Infrastructure Capacity—servers, processors, storage devices and storage media, telecommunications products and services, computer peripherals, and other capital expenditure items necessary to assist in the building of or acquiring the necessary technical architecture or infrastructure to be part of and a participant on the Network. This includes Internet services that assist an organization to participate on the Network, security products and services necessary to safeguard data access on the Internet and Network.

Systems Development—consultant services, software design, development, operations or evaluation services for database management; services for application development and operations; product purchases or development services; and activities that assist in providing the capability to format, store, transform, transmit, manipulate, reconcile and/or improve the quality of data that might be available to the Network. These services, products, and development activities can include functions that support the following: central data exchange services, database management systems, data registries, data integration systems and applications, data access activities, and applications that support the Network.

Geospatial Development—Geographic Information System (GIS) consultation services, infrastructure development, geospatial data acquisition, locational data improvement, planning, data acquisition, and database development that would enhance the ability to integrate and use geospatial information for environmental decision-making and for public access. Activities can include, but are not limited to, functions that would improve locational coordinates for facilities in the Facility Registry System (FRS); documenting the improvements and uploading locational data and metadata through a State or EPA portal; and improving locational data for other point locations (i.e., in addition to FRS facilities), areas, or boundaries needed to carry out EPA, State, Tribal, and/or local environmental programs in accordance with EPA's latitude/longitude data standards and Federal Geographic Data Committee (FGDC) standards. Additional activities might include developing, improving or contributing to efforts for collection of high quality locational data and metadata for specific environmental program areas such as water, air, waste, toxics, pesticides and enforcement for use by EPA, States, Tribes, local, and other federal agencies.

Criteria and Selecting Proposals

EPA will evaluate work plans on how they best address critical steps and milestones that will be taken over the next three years that demonstrate commitment for participation on the Network. Work plans should address the purpose of the project and how it will demonstrate a commitment to participate on the Network by one of the following activities: (1) Establish an official information source and steward; (2) Develop technical infrastructure for Internet node operation; (3) Connection of information resources to a node; (4) Node implementation for providing information to the Network; (5) Node/Trading Partner Agreement and management.

OEI will form a proposal review panel consisting of representatives from OEI, AEIO, and EPA's Regional Offices. The panel members will separately review and then discuss each proposal. OEI will make final selections based on panel recommendations and feedback on project proposals from Regional Offices. EPA Headquarters will award and Regional Program Offices will manage these grants.

Part 4—Network Challenge Grants

Eligibility and Availability of Funds

All States and Tribes may apply for Challenge Grants. States are eligible to receive a maximum of $1,000,000 for a grant. Tribes are eligible to receive a maximum grant of $300,000 from the Tribal set-aside funds.

Use of Funds

Challenge grants will support single State/Tribe or multi-State/Tribe collaborative efforts to advance the Network's development and implementation and create benefits for multiple States/Tribes. Examples of collaborative efforts in the past include the Michigan Technology Assessment and e-DMR XML Pilot and Data Exchange project; the Pacific Northwest Water Quality Data Exchange efforts between Oregon, Alaska, Idaho, and Washington State; and the Multi-Tribe (Confederated Tribes of the Umatilla, the Yakima Nation, and the Nez Perce Tribe) collaborative project for Air Quality Analysis in the Columbia River Gorge. A narrative description of these projects and other Challenge Grants funded in FY 2002 can be found at http://www.epa.gov/neengprg. Challenge Grant applicants should review this listing to ensure that they do not propose a similar project but build upon the efforts that are currently funded through the Challenge Grants.

Another example of a collaborative effort could be a multi-State and/or multi-Tribe group that has demonstrated success in data integration. This group would offer to provide active, structured technical assistance to other States and/or Tribes that are beginning their efforts for data integration. The multi-State and/or multi-Tribe group would help the less advanced States and/or Tribes to develop, implement and maintain their information technology/information management program and capabilities, which would then place them in a position to become an active participant in the Network.

Particular Requirements

An applicant must produce a comprehensive proposal that addresses the following:

(1) Critical steps and milestones for the project that will be undertaken and demonstrate commitment to actual development of the project. The project may be media-specific or multi-media in nature.

(2) Explanation of why the proposed project would benefit the Network and data integration. Explain the potential for other States/Tribes to collaborate and learn from the success of the project and the broad applicability for participation in the Network.

(3) Clear definition of project goals and measures. Clearly describe the goal(s) of the project, describe in detail the measures used to evaluate the success of the project, and the plan for reporting results based on the measures. The goal(s) should be stated in terms of the State/Tribe efforts, and the measures should emphasize results and outcomes to be achieved, not just activities or outputs produced.

(4) Clear and detailed description of the strategy. Clearly describe the strategy and how it will address the project identified. The strategy should demonstrate innovative and creative solutions to Network exchanges and should specify the tools or actions to be used, the schedule for implementing the project, the agencies/entities involved in implementing the strategies and their respective roles, and other resources leveraged to address the problem.

Criteria and Selecting Proposals

EPA will evaluate proposals on their feasibility, and on their potential to make a contribution to nationwide Network capacity. The proposals should clearly address how the project would (1) advance the functionality of the Network through the immediate flow of higher quality environmental data; (2) create a model that would be easily implemented, have broad applicability, and would be readily transferable to a wide group of Network participants; (3) achieve a reduction in reporting and accessing burden; (4) provide increased public access to environmental data; and (5) involve collaboration throughout the project.

OEI will form a proposal review panel consisting of representatives from OEI, AIEO, EPA's Regional Offices and technology experts (federal staff and/or consultants). EPA will make final selections based on panel recommendations and feedback on project proposals. EPA Headquarters will award and Regional Program Offices will manage these grants.

Part 5—Network Administration Grants

Network Administration Funds will be set aside in the amount of $1.5 million.

Section IV. Awarding of Grants

States and Tribes that are selected to receive both a Network One Stop or Network Readiness Grant and a Network Challenge grant may receive the combined grant funds in a single award. However, if a State or Tribe elects to receive the combined grant funds in a single award, it will have to wait until the Network Challenge grant selections are made to be awarded funds. EPA will award funds to those States and Tribes that only apply for the Network One Stop or Network Readiness Grants after final selections are made.

Funds that States or Tribes do not apply for, or ultimately qualify for, under the Network One Stop Grant or the Network Challenge Grant, will be made available through the Network Readiness Grants. EPA reserves the right to reject any application or proposal. For questions concerning grant award decisions please refer to the contact information in Section VII.

Section V. Post Award Requirements

Grant recipients must submit a copy of the semiannual program report to the regional grant manager and the headquarters contact. At a minimum, program reports will include:

—An update on the schedule and status of the implementation of the project, including any implementation problems encountered and suggestions to overcome them;

—An explanation of expenditures to date, and unless the grant is included in the PPG (40 CFR Part 35.530(b) and 40 CFR Part 35.130(b)), expenditures linked to project results; and

—An assessment of progress in meeting project goals, including output and outcome measures when available.

Section VI. Authority & Applicable Regulations

—Subject to Availability: FY 2003 VA-HUD and Independent Agencies Appropriations Bill

—Catalog of Federal Domestic Assistance: 66.608

—Delegation of Authority: 1-47

—40 CFR Part 31 and 40 CFR Part 35, Subpart A and Subpart B apply to this grant program.

Section VII. Points of Contact

Headquarters Contact—Lyn Burger, Office of Environmental Information, Washington, D.C. 20460, Phone, 202-566-1024, FAX, 202-566-1624, E-mail, neengprg@epamail.epa.gov.

Regional Contacts

EPA Region I

Mike MacDougall, US EPA Region I, 1 Congress Street, Suite 1100 (RSP), Boston, MA 02114, (617) 918-1941, macdougall.mike@epa.gov.

EPA Region II

Robert Simpson, US EPA Region II, 290 Broadway, New York, NY 10007-1866, (212) 637-3335, simpson.robert@epa.gov.

EPA Region III

Joseph Kunz, US EPA Region III, 1650 Arch Street, Philadelphia, PA 19103, (215) 814-2116, (215) 814-5251 Fax, kunz.joseph@epa.gov.

EPA Region IV

Richard Nawyn, US EPA Region IV, 61 Forsyth Street, Atlanta, GA 30303, (404) 562-8320, nawyn.richard@epa.gov.

EPA Region V

Noel Kohl, US EPA Region V, Resource Management Division, 77 W. Jackson Boulevard, Chicago, IL 60604, (312) 886-6224, kohl.noel@epa.gov.

EPA Region VI

Dorian Reines, US EPA Region VI, 1445 Ross Ave., US EPA Region X, 1200 6th Avenue (EMI-095), Seattle, WA 98101, (206) 553-1761, hill.burney@epa.gov.

Web Site information— http://www.epa.gov/neengprg.

[FR Doc. 02-32773 Filed 12-26-02; 8:45 am]

BILLING CODE 6560-50-P